DEPARTMENT OF DEFENSE

Office of the Secretary

[Docket ID: DoD-2024-OS-0064]

Submission for OMB Review; Comment Request

AGENCY: Office of Strategic Capital, Office of the Under Secretary of Defense for Research and Engineering (OUSD(R&E)), Department of Defense (DoD).

ACTION: 30-Day information collection notice.

SUMMARY: The DoD has submitted to the Office of Management and Budget (OMB) for clearance the following proposal for collection of information under the provisions of the Paperwork Reduction Act.

DATES: Consideration will be given to all comments received by September 19, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Office of Strategic Capital Loan Application Part 1 and Part 2; OMB Control Number 0704-OSCL.

Type of Request: New collection.

Application Part 1

Number of Respondents: 50.

Responses per Respondent: 1.

Annual Responses: 50.

Average Burden per Response: 15 hours.

Annual Burden Hours: 750.

Application Part 2

Number of Respondents: 10.

Responses per Respondent: 1.

Annual Responses: 10.

Average Burden per Response: 40 hours.

Annual Burden Hours: 400.

Total

Number of Respondents: 50.

Annual Responses: 60.

Annual Burden Hours: 1,150.

Needs and Uses: This information collection is essential to process applications for loans and loan guarantees under section 903 of the Fiscal Year 24 National Defense Authorization Act (“NDAA”).

Section 903 of the NDAA authorizes the Office of Strategic Capital (“OSC”), established within the “DOD” OUSD(R&E), to implement a pilot program to provide direct loans and loan guarantees to eligible entities. These investments are for technologies that fall within specified covered technology categories and have potential applications beyond defense. The eligibility and selection criteria for investments include the extent to which an investment supports U.S. national security or economic interests, the likelihood that direct loans would accelerate the investment, and the creditworthiness of the investment.

To properly underwrite the loans and assure that the loans satisfy these requirements, OSC must collect comprehensive information from entities seeking funding. This is accomplished through a two-part application process, where Application Part 1 gathers basic information for a preliminary assessment of whether the project is eligible, and Application Part 2 uses in-depth financial and technical information on the project's economic viability and economic benefits to confirm eligibility and assess alignment with OSC's strategic program priorities and requirements. OSC will assess Application Part 1 findings and will, on a case-by-case basis, invite potential borrowers to submit an Application Part 2. In certain circumstances, as proscribed by law, OSC will also consult with the Office of Management and Budget on Application Part 1 findings.

OSC must collect Application Part 1 and Application Part 2 from entities seeking funding. OSC will issue a Notice of Funding Availability (“NOFA”) to provide entities with an opportunity to submit applications.

Both Application Part 1 and Part 2 will be accessible to the public for download from the OSC website at https://www.cto.mil/osc/. The applicants download the application, which is a fillable PDF document, complete the application, and then email the application, along with any additional required documents, such as financial statements, to a designated OSC email box.

Together, the Applications Part 1 and Part 2 collect various kinds of information about the borrower (or sponsor, as applicable), the project for which the financing is sought, and related issues such as the environmental, economic, national security, and social impacts of the proposed project. The applications also collect information about the ownership and management of the borrower. All the collected information will be reviewed and evaluated by OSC underwriters, technical advisers, and engineers. The financial information will be analyzed through a variety of methods, including, but not limited to, financial analysis tools, to make sure that the borrower has the financial ability to repay the loan. Technical information regarding the underlying commercial project or transaction will be analyzed to make sure that the project relates to a technology within the 31 covered technology categories set forth in NDAA section 903 and to confirm the applicant's engineering representations. In certain cases, environmental engineers will review the underlying project or transaction for compliance with applicable environmental rules and regulations. Overall, the review process aims to determine loan eligibility and ensure alignment with strategic objectives. After complete underwriting due diligence, the information collected is summarized in a Credit Memorandum to be approved by a designated approver. The designated approver for a specific transaction will depend on the size of the transaction, with the largest being approved by the Director of OSC, middle range being approved by a Credit Committee, and the smallest approved by the Director of the OSC loan program. The specific thresholds for each level have not yet been finalized. Once the transaction is approved, the applicant will be notified and OSC will proceed to legally document the transaction.

The burden estimates above are based on each NOFA or application—that is, they assume OSC offers only a single funding opportunity per year. As OSC programs grow, it will offer more funding opportunities each year, thus resulting in greater aggregate annual burdens. It is possible, though unlikely, that any given borrower will submit more than one application in any given year, for the simple reason that the funding opportunities will vary across OSC programs. OSC's best estimate at this time is that OSC could offer approximately five funding opportunities per year, or that applications could be accepted on a rolling basis, resulting in application numbers equivalent to approximately five funding opportunities per year. Therefore, OSC estimates that, once it is fully staffed and operating, the annual burden numbers set forth above should be multiplied by five.

Affected Public: Businesses within the definition of “eligible entity” as defined in 10 United States Code (U.S.C.) 149(e)(3) and operating within the 31 covered technology categories listed in 10 U.S.C. 149(e)(2).

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: August 14, 2024.
Patricia L. Toppings,
OSD Federal Register Liaison Officer, Department of Defense.

[FR Doc. 2024-18540 Filed 8-19-24; 8:45 am]

BILLING CODE 6001-FR-P